DEPARTMENT OF LABOR

Employment and Training Administration

[TA-W-56,904]

Renfro Corporation, Star Plant, Star, North Carolina; Notice of Termination of Investigation

Pursuant to Section 221 of the Trade Act of 1974, as amended, an investigation was initiated on April 7, 2005 in response to a petition filed on behalf of workers of Renfro Corporation, Star Plant, Star, North Carolina.

The petitioners were separated from employment with the subject firm during 2003, more than one year before the date of their petition. A company official confirmed that production by the firm at the Star Plant ceased in 2003. Section 223(b) of the Trade Act of 1974, as amended, specifies that no certification may apply to any worker whose last separation occurred more than one year before the date of the petition.

All workers of Renfro Corporation, Star Plant, Star, North Carolina, who became totally or partially separated from employment on or after January 30, 2001 through May 31, 2004, were certified eligible to apply for trade adjustment assistance under petition number TA-W-41,259. The petitioners may apply for assistance under that petition number.

Consequently, further investigation in this case would serve no purpose, and the investigation has been terminated.

Signed at Washington, DC, this 12th day of April, 2005.
Linda G. Poole
Certifying Officer, Division of Trade Adjustment Assistance.

[FR Doc. E5-2122 Filed 5-2-05; 8:45 am]

BILLING CODE 4510-30-P